DEPARTMENT OF ENERGY

Federal Energy Regulatory Commission

Combined Notice of Filings #1

Take notice that the Commission received the following exempt wholesale generator filings:

Docket Numbers: EG16-126-000.

Applicants: McHenry Battery Storage, LLC.

Description: Notice of Self-Certification of Exempt Wholesale Generator Status of McHenry Battery Storage, LLC.

Filed Date: 7/8/16.

Accession Number: 20160708-5176.

Comments Due: 5 p.m. ET 7/29/16.

Take notice that the Commission received the following electric rate filings:

Docket Numbers: ER10-2474-014.

Applicants: Sierra Pacific Power Company.

Description: Compliance filing: Market-Based Rate Tariff Volume No. 7 SPPC to be effective 6/9/2016.

Filed Date: 7/8/16.

Accession Number: 20160708-5185.

Comments Due: 5 p.m. ET 7/29/16.

Docket Numbers: ER10-2475-014.

Applicants: Nevada Power Company.

Description: Compliance filing: Market-Based Rate Tariff, Volume No. 11 to be effective 6/9/2016..

Filed Date: 7/8/16.

Accession Number: 20160708-5184.

Comments Due: 5 p.m. ET 7/29/16.

Docket Numbers: ER12-1266-006.

Applicants: Midcontinent Independent System Operator, Inc.

Description: Compliance filing: 2016-07-08 Order 745-719 True-up Filing to be effective 6/1/2012.

Filed Date: 7/8/16.

Accession Number: 20160708-5191.

Comments Due: 5 p.m. ET 7/29/16.

Docket Numbers: ER12-2261-007.

Applicants: Russell City Energy Company, LLC.

Description: Notification of Change in Status of Russell City Energy Company, LLC.

Filed Date: 7/8/16.

Accession Number: 20160708-5229.

Comments Due: 5 p.m. ET 7/29/16.

Docket Numbers: ER16-1062-001.

Applicants: MidAmerican Energy Company.

Description: Compliance filing: MidAmerican Energy Company Offer of Settlement to be effective 5/1/2016.

Filed Date: 7/11/16.

Accession Number: 20160711-5000.

Comments Due: 5 p.m. ET 8/1/16.

Docket Numbers: ER16-1062-002.

Applicants: MidAmerican Energy Company.

Description: Compliance filing: Motion for Interim Rates to be effective 8/1/2016.

Filed Date: 7/11/16.

Accession Number: 20160711-5001.

Comments Due: 5 p.m. ET 8/1/16.

Docket Numbers: ER16-1301-001.

Applicants: ISO New England Inc., Emera Maine.

Description: Compliance filing: Emera Maine Compliance Filing—Docket No. ER16-1301-000 to be effective 6/1/2016.

Filed Date: 7/11/16.

Accession Number: 20160711-5162.

Comments Due: 5 p.m. ET 8/1/16.

Docket Numbers: ER16-1371-002.

Applicants: 63SU 8ME LLC.

Description: Notice of Change in Status of 63SU 8ME LLC.

Filed Date: 7/11/16.

Accession Number: 20160711-5149.

Comments Due: 5 p.m. ET 8/1/16.

Docket Numbers: ER16-2167-000.

Applicants: Southwest Power Pool, Inc.

Description: § 205(d) Rate Filing: 2880R1 Rattlesnake Creek Wind Project GIA to be effective 6/10/2016.

Filed Date: 7/8/16.

Accession Number: 20160708-5174.

Comments Due: 5 p.m. ET 7/29/16.

Docket Numbers: ER16-2168-000.

Applicants: Pacific Gas and Electric Company.

Description: § 205(d) Rate Filing: Interim Transmission Access Charge Balancing Account Adjustment (TACBAA) 2016 to be effective 10/1/2016.

Filed Date: 7/8/16.

Accession Number: 20160708-5192.

Comments Due: 5 p.m. ET 7/29/16.

Docket Numbers: ER16-2169-000.

Applicants: Algonquin SKIC 20 Solar, LLC.

Description: Baseline eTariff Filing: Application for Initial Tariff to be effective 7/14/2016.

Filed Date: 7/8/16.

Accession Number: 20160708-5193.

Comments Due: 5 p.m. ET 7/29/16.

Docket Numbers: ER16-2171-000.

Applicants: PJM Interconnection, L.L.C.

Description: Tariff Cancellation: Notice of Cancellation of WMPA SA No. 3439, Queue No. Y1-027 to be effective 5/26/2016.

Filed Date: 7/11/16.

Accession Number: 20160711-5061.

Comments Due: 5 p.m. ET 8/1/16.

Docket Numbers: ER16-2172-000.

Applicants: Midcontinent Independent System Operator, Inc.

Description: § 205(d) Rate Filing: 2016-07-11_SA 2926 GRE—Oliver Wind III FCA (C023) to be effective 7/12/2016.

Filed Date: 7/11/16.

Accession Number: 20160711-5071.

Comments Due: 5 p.m. ET 8/1/16.

Docket Numbers: ER16-2173-000.

Applicants: Midcontinent Independent System Operator, Inc.

Description: § 205(d) Rate Filing: 2016-07-11_SA 2927 Duke Energy Business Services—Duke Energy Indiana GIA (J453) to be effective 7/12/2016.

Filed Date: 7/11/16.

Accession Number: 20160711-5078.

Comments Due: 5 p.m. ET 8/1/16.

Docket Numbers: ER16-2174-000.

Applicants: PJM Interconnection, L.L.C.

Description: Tariff Cancellation: Notice of Cancellation of WMPA SA No. 3251, Queue No. W3-025 and X1-077 to be effective 8/22/2016.

Filed Date: 7/11/16.

Accession Number: 20160711-5164.

Comments Due: 5 p.m. ET 8/1/16.

Docket Numbers: ER16-2175-000.

Applicants: Midcontinent Independent System Operator, Inc.

Description: § 205(d) Rate Filing: 2016-07-11_2nd Quarter MISO Tariff Clean-Up Filing to be effective 7/12/2016.

Filed Date: 7/11/16.

Accession Number: 20160711-5168.

Comments Due: 5 p.m. ET 8/1/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2016.
Nathaniel J. Davis, Sr.,
Deputy Secretary.

[FR Doc. 2016-16877 Filed 7-15-16; 8:45 am]

BILLING CODE 6717-01-P